DEPARTMENT OF TRANSPORTATION

Office of the Secretary

Notice of Applications for Certificates of Public Convenience and Necessity and Foreign Air Carrier Permits Filed Under Subpart B (Formerly Subpart Q) During the Week Ending February 15, 2008

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the answer period DOT may process the application by expedited procedures. Such procedures may consist of the adoption of a show-cause order, a tentative order, or in appropriate cases a final order without further proceedings.

Docket Number: DOT-OST-2008-0065.

Date Filed: February 15, 2008.

Due Date for Answers, Conforming Applications, or Motion to Modify Scope:March 7, 2008.

Description: Application of Gadair European Airlines, S.L. (“Gadair”) requesting a foreign air carrier permit to engage in (i) Charter foreign air transportation of persons, property and mail between any point or points in Spain and any point or points in the United States, (ii) effective March 30, 2008, scheduled and charter foreign air transportation of persons, property and mail from any point or points behind any Member State of the European Union via any point or points in any Member State and via intermediate points to any point or points in the United States and beyond coextensive with the rights provided under the U.S.-EC Air Transport Agreement, (iii) effective March 30, 2008, scheduled and charter foreign air transportation of persons, property and mail between any point or points in any member of the European Common Aviation Area and any point or points in the United States coextensive with the rights provided under the U.S.-EC Air Transport Agreement, and (iv) other charters. Gadair further requests equivalent exemption authority enabling it to provide the services described above pending issuance of a foreign air carrier permit.

Docket Number: DOT-OST-2008-0064.

Date Filed: February 15, 2008.

Due Date for Answers, Conforming Applications, or Motion to Modify Scope: March 7, 2008.

Description: Application of BA European Ltd t/a OpenSkies “OpenSkies” requesting issuance of a foreign air carrier permit to enable it to engage in: (i) Foreign scheduled and charter air transportation of persons, property and mail from any point or points behind any Member State of the European Union via any point or points in any Member State and via intermediate points to any point or points in the United States and beyond; (ii) foreign scheduled and charter air transportation of persons, property and mail between any point or points in the United States and any point or points in any member of the European Common Aviation Area; (iii) foreign scheduled and charter cargo air transportation between any point or points in the United States and any other point or points; (iv) other charters; and (v) transportation authorized by any additional route rights made available to European Community carriers in the future. OpenSkies also requests exemption authority to enable it to hold out and provide the service described above under the “OpenSkies” name pending issuance of a foreign air carrier permit and such additional or other relief.

Renee V. Wright,
Program Manager, Docket Operations, Federal Register Liaison.

[FR Doc. E8-12887 Filed 6-6-08; 8:45 am]

BILLING CODE 4910-9X-P